ENVIRONMENTAL PROTECTION AGENCY

40 CFR Part 52

[R03-OAR-2005-PA-0011; FRL-7917-6]

Approval and Promulgation of Air Quality Implementation Plans; Pennsylvania; Withdrawal of Direct Final Rule

AGENCY: Environmental Protection Agency (EPA).

ACTION: Withdrawal of direct final rule.

SUMMARY: Due to adverse comments, EPA is withdrawing the direct final rule to approve Pennsylvania's State Implementation Plan (SIP) revision. The SIP revision pertains to source-specific nitrogen oxides (NOX) reasonably available control technology (RACT) determination for five individual sources located in Pennsylvania. In the direct final rule published on March 30, 2005 (70 FR 16115), we stated that if we received adverse comments by April 29, 2005, the rule would be withdrawn and not take effect. EPA subsequently received adverse comments. EPA will address the comments received in a subsequent final action based upon the proposed action also published on March 30, 2005 (70 FR 16203). EPA will not institute a second comment period on this action.

DATES: The direct final rule is withdrawn as of May 26, 2005.

FOR FURTHER INFORMATION CONTACT: Rose Quinto, (215) 814-2182, or by e-mail at quinto.rose@epa.gov.

List of Subjects in 40 CFR Part 52

Environmental protection, Air pollution control, Nitrogen dioxide, Ozone, Reporting and recordkeeping requirements.

Dated: May 16, 2005.
Donald S. Welsh,
Regional Administrator, Region III.

Accordingly, the addition of the entries for R. H. Sheppard Co. Inc.; Wheatland Tube Company; Transcontinental Gas Pipeline Corporation (OP-53-0006); Transcontinental Gas Pipeline Corporation (OP-19-0004); and, Transcontinental Gas Pipeline Corporation (PA-41-0005A) in 40 CFR 52.2020(d)(1) published at 70 FR 16118 are withdrawn as of May 26, 2005.

[FR Doc. 05-10512 Filed 5-25-05; 8:45 am]

BILLING CODE 6560-50-P